DEPARTMENT OF COMMERCE

National Oceanic and Atmospheric Administration

[I.D. 071105E]

Endangered Species; File No. 1475

AGENCY: National Marine Fisheries Service (NMFS), National Oceanic and Atmospheric Administration (NOAA), Commerce.

ACTION: Notice; issuance of permit.

SUMMARY: Notice is hereby given that the Florida Fish and Wildlife Conservation Commission (FFWCC), Florida Marine Research Institute (Richard E. Matheson, Principal Investigator), 1481 Market Circle, Unit 1, Port Charlotte, FL 33953 has been issued a permit to take smalltooth sawfish, Pristis pectinata, for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Avenue South, Saint Petersburg, Florida 33701; phone (727)824-5312; fax (727)824-5309.

FOR FURTHER INFORMATION CONTACT: Patrick Opay or Jennifer Skidmore, (301)713-2289.

SUPPLEMENTARY INFORMATION: On May 21, 2004, notice was published in the Federal Register (69 FR 29274) that a request for a scientific research permit to take smalltooth sawfish had been submitted by the above-named organization. On January 26, 2005, notice was published in the Federal Register (70 FR 3682) that a request to amend the permit application to include takes of loggerhead (Caretta caretta), Kemp's ridley (Lepidochelys kempii),green (Chelonia mydas), hawksbill (Eretmochelys imbricata) and leatherback (Dermochelys coriacea) turtles. The requested permit has been issued under the authority of the Endangered Species Act of 1973, as amended (ESA; 16 U.S.C. 1531 et seq.) and the regulations governing the taking, importing, and exporting of endangered and threatened species (50 CFR parts 222-226).

Issuance of this permit, as required by the ESA, was based on a finding that such permit (1) was applied for in good faith, (2) will not operate to the disadvantage of any endangered or threatened species, and (3) is consistent with the purposes and policies set forth in section 2 of the ESA.

Dated: October 20, 2005.
Stephen L. Leathery,
Chief, Permits, Conservation and Education Division, Office of Protected Resources, National Marine Fisheries Service.

[FR Doc. 05-21303 Filed 10-24-05; 8:45 am]

BILLING CODE 3510-22-S